DEPARTMENT OF AGRICULTURE

Forest Service

Notice of Lincoln County Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Kootenai National Forest's Lincoln County Resource Advisory Committee will meet on Wednesday, October 13, 2010 at 6 p.m. at the Forest Supervisor's Office in Libby, Montana for a business meeting. The meeting is open to the public.

DATES: October 13, 2010.

ADDRESSES: Forest Supervisor's Office, 31374 U.S. Hwy 2, Libby, Montana.

FOR FURTHER INFORMATION CONTACT: Janette Turk, Committee Coordinator, Kootenai National Forest at (406) 283-7764, or e-mail jturk@fs.fed.us.

SUPPLEMENTARY INFORMATION: Agenda will include review of 2010 project proposals and 2008-09 project status. If the meeting date or location is changed, notice will be posted in the local newspapers, including the Daily Interlake based in Kalispell, Montana.

Dated: October 1, 2010.
Paul Bradford,
Forest Supervisor.

[FR Doc. 2010-25396 Filed 10-7-10; 8:45 am]

BILLING CODE 3410-11-P